FEDERAL ELECTION COMMISSION

Sunshine Act Meeting

AGENCY: Federal Election Commission.

Date & Time: Tuesday, July 18, 2000 at 10:00 a.m.

Place: 999 E Street, N.W., Washington, D.C.

Status: This meeting will be closed to the public.

Items To Be Discussed:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Date & Time: Thursday, July 20, 2000 at 10:00 a.m.

Place: 999 E Street, N.W., Washington, D.C. (Ninth Floor).

Status: This meeting will be open to the public.

Items To Be Discussed:

Correction and Approval of Minutes.

Advisory Opinion 2000-14: New York State Committee of the Working Families Party by counsel, Michael Trister.

Administrative Matters.

Person To Contact for Information: Mr. Ron Harris, Press Officer, Telephone: (202) 694-1220.

Mary W. Dove,
Acting Secretary.

[FR Doc. 00-17832 Filed 7-11-00; 10:41 am]

BILLING CODE 6715-01-M